DEPARTMENT OF THE INTERIOR

Bureau of Land Management

[LLCAD08000. L51010000. ER0000. LVRWB09B2660 CACA-49138]

Notice of Availability of the Draft Environmental Impact Statement/Draft Environmental Impact Report and the Draft California Desert Conservation Area Plan Amendment for the Calnev Pipe Line Expansion Project

AGENCY: Bureau of Land Management, Interior.

ACTION: Notice of availability.

SUMMARY: In accordance with the National Environmental Policy Act of 1969 (NEPA), as amended, the Federal Land Policy and Management Act of 1976, as amended, and the California Environmental Quality Act, the Department of the Interior, Bureau of Land Management (BLM), together with the County of San Bernardino, has prepared an Environmental Impact Statement (EIS)/Environmental Impact Report (EIR) and Draft Resource Management Plan (RMP) Amendment for the Calnev Pipe Line Expansion Project in San Bernardino County, California and Clark County, Nevada, and by this notice is announcing the opening of the comment period.

DATES: To ensure that comments will be considered, the BLM must receive written comments on the Draft RMP Amendment and Draft EIS within 90 days following the date the Environmental Protection Agency publishes its Notice of Availability in the Federal Register. The BLM will announce future meetings or hearings and any other public involvement activities at least 15 days in advance through public notices, media releases, and/or mailings.

ADDRESSES: You may submit comments related to the Calnev Pipeline Expansion Project by any of the following methods:

• Email: BLM_CA_CalNev_EIS@blm.gov

• Fax: 760-252-6099

• Mail: Attn: Rich Rotte, BLM Barstow Field Office, 2601 Barstow Road, Barstow California 92310

Copies of the Calnev Pipeline Expansion Project Draft EIS/EIR and Draft RMP Amendment are available in the Barstow Field Office at the above address and at the following locations:

• Victorville City Library, 15011Circle Drive, Victorville, California 92395

• Rialto Branch Library, 251 West 1st Street, Rialto, California 92376

• Las Vegas Library, 833 Las Vegas Blvd. N., Las Vegas, Nevada 80101

FOR FURTHER INFORMATION CONTACT: For further information, contact Rich Rotte, Realty Specialist, telephone 760-252-6026, address: Barstow Field Office, 2601 Barstow Road, Barstow, California 92311; email BLM_CA_CalNev_EIS@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Calnev Pipe Line, LLC (Calnev) has submitted a right-of-way (ROW) application to the BLM to construct, operate, maintain, and decommission a petroleum pipeline known as the Calnev Pipeline Expansion Project in San Bernardino County, California and Clark County, Nevada. The proposed project site encompasses approximately 2,841 acres of land under multiple jurisdictions: Private, County, or Municipal—1,398 acres; California State Lands Commission—14 acres; Department of Defense—86 acres; San Bernardino National Forest—104 acres; BLM—1,329 acres. The project site is generally located adjacent to two existing Calnev pipelines except where it may deviate from those pipelines to avoid the Mojave National Preserve. The project will consist of approximately 235 miles of 16-inch diameter pipe (approximately half is on BLM lands), a new pump station near Baker, California, a 3-mile lateral pipeline from the Bracken junction to McCarran International Airport, and new or modified connections to new or modified laterals, valves, and ancillary facilities. Calnev is required to obtain a Revised Franchise Agreement from the County of San Bernardino.

The BLM and San Bernardino County are conducting a joint EIS/EIR for the Calnev Pipeline Expansion Project on BLM-managed land. The BLM's purpose and need for the Project is to respond to Calnev's application for a ROW grant. The BLM will decide whether to approve, approve with modification, or deny issuance of a ROW grant to Calnev for the proposed Calnev Pipeline Expansion Project. The BLM will analyze the following alternatives: Alternative 1 (the Proposed Action), Alternative 2 (Modified Route Alternative), Alternative 3 (the Agency-Preferred Alternative which avoids the Mojave National Preserve), and the No Project/No Action Alternative.

Since approval of any of the action alternatives would require amendment of the BLM's California Desert Conservation Area Plan, the plan amendment process will be integrated with the NEPA process as part of the EIS/EIR.

The BLM will use the NEPA process to satisfy the public involvement requirement for Section 106 of the National Historic Preservation Act (NHPA) (16 U.S.C. 470(f)) as provided in 36 CFR 800.2(d)(3). Native American Tribal consultations are being conducted in accordance with Section 106 of the NHPA, BLM, and Department of the Interior policy, and Tribal concerns will be given due consideration, including impacts on Indian trust assets.

The Draft EIS/EIR evaluates the potential impacts on air quality, biological resources, cultural resources, geological resources and hazards, land use, noise, paleontological resources, public health, socioeconomics, soils, traffic and transportation, visual resources, wilderness characteristics, and other resources. A Notice of Intent to prepare an EIS/EIR for the Calnev Pipeline Expansion Project was published in the Federal Register (73 FR 13558) on Thursday, March 13, 2008. The BLM and San Bernardino County held five public scoping meetings: Rialto, California on April 1, April 30, and June 18, 2008; Victorville, California on April 2, 2008; and Las Vegas, Nevada on April 3, 2008. The formal scoping period ended on July 1, 2008. Issues and concerns raised during the scoping period involved impacts to visual resources, health and safety and natural resources.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2.

Thomas Pogacnik,
Deputy State Director.

[FR Doc. 2012-6921 Filed 3-22-12; 8:45 am]

BILLING CODE 4310-40-P